DEPARTMENT OF THE INTERIOR

National Park Service

Final Environmental Impact Statement: Mountain Lakes Fisheries Management Plan; North Cascades National Park Complex, Skagit and Whatcom Counties, WA; Notice of Approval of Record of Decision

Summary: Pursuant to § 102(2)(C) of the National Environmental Policy Act of 1969 (Pub. L. 91-190, as amended) and the regulations promulgated by the Council on Environmental Quality (40 CFR Part 1505.2), the Department of the Interior, National Park Service has prepared and approved a Record of Decision for the Final Environmental Impact Statement (FEIS) for the Mountain Lakes Fisheries Management Plan, prepared pursuant to a 1991 Consent Decree between the North Cascades Conservation Council and the National Park Service. The FEIS and Draft EIS were prepared in cooperation with the Washington Department of Fish and Wildlife (WDFW). The requisite no-action “wait period” was initiated July 18, 2008, with the Environmental Protection Agency's notification of the filing of the FEIS published in the Federal Register.

Decision: North Cascades National Park Complex, in concert with the WDFW, will undertake a suite of actions necessary to conserve native biological integrity, while providing for a spectrum of recreational opportunities, including sport fishing and wilderness visitor experience. Key steps for successfully implementing the selected alternative (Management Alternative B as detailed in the FEIS) include but are not limited to:

• Lakes which are currently fishless will remain so in the future;

• High densities of reproducing fish will be removed from up to 27 lakes;

• Stocking will continue in up to 42 lakes, with a long-term goal of utilizing only fish incapable of reproducing and establishing self-sustaining populations; and

• Long term monitoring of the status of native species, including amphibians and benthic macro vertebrates, will be maintained.

Implementation of Management Alternative B requires authorization from Congress that fish stocking is appropriate within North Cascades National Park Complex. In addition to the selected alternative, the Draft EIS and FEIS also assessed the foreseeable environmental consequences a No Action alternative and two additional “action” alternatives. As documented in the Draft EIS and FEIS, Management Alternative D was deemed to be the “environmentally preferred” course of action.

Copies: Interested parties desiring to review the Record of Decision may obtain a copy by contacting the Superintendent, North Cascades National Park Complex, 810 State Route 20, Sedro Woolley, Washington, CA 98284 or via telephone request at (360) 854-7300.

Dated: December 10, 2008.
George J. Turnbull,
Acting Regional Director, Pacific West Region.

Editorial Note: This document was received in the Office of the Federal Register on May 5, 2009.

[FR Doc. E9-10765 Filed 5-7-09; 8:45 am]

BILLING CODE 4312-HJ-P